DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 17, 2005.

Interested persons are invited to submit written comments regarding the subject matter of the investigations to the Director, Division of Trade Adjustment Assistance, at the address shown below, not later than October 17, 2005.

The petitions filed in this case are available for inspection at the Office of the Director, Division of Trade Adjustment Assistance, Employment and Training Administration, U.S. Department of Labor, Room C-5311, 200 Constitution Avenue, NW., Washington, DC 20210.

Signed at Washington, DC this 20th day of September 2005.
Timothy Sullivan,
Director, Division of Trade Adjustment Assistance.

Appendix
[Petitions instituted between 09/06/2005 and 09/09/2005]
Date of TA-W petition | Subject firm (petitioners) | Location | Date of institution
57,888, 08/25/2005 | Pentair Pump (UAW) | Ashland, OH | 09/06/2005
57,889, 09/06/2005 | Telex Communications (State) | Blue Earth, MN | 09/06/2005
57,890, 09/01/2005 | Pilowtex Corporation (Comp) | Kannapolis, NC | 09/06/2005
57,891, 08/26/2005 | Teradyne, Inc. (Comp) | San Jose, CA | 09/06/2005
57,892, 08/23/2005 | Cardinal Health (State) | El Paso, TX | 09/07/2005
57,893, 08/31/2005 | Century Technology, Inc. (Comp) | So. San Francis, CA | 09/07/2005
57,894, 08/31/2005 | New Fortune (Comp) | Oakland, CA | 09/07/2005
57,895, 08/31/2005 | JD Fine and Company (NPC) | Concord, CA | 09/07/2005
57,896, 09/02/2005 | Cranford Woodcarving, Inc. (Wkrs) | Hickory, NC | 09/07/2005
57,897, 08/31/2005 | Nypro Carolina (Comp) | Graham, NC | 09/07/2005
57,898, 09/06/2005 | BESI, Inc. (Comp) | Vevay, IN | 09/07/2005
57,899, 09/07/2005 | Janef, Inc. (Comp) | Old Forge, PA | 09/07/2005
57,900, 09/07/2005 | Tree Island Wire USA (UE) | Walnut, CA | 09/08/2005
57,901, 09/08/2005 | Barbett Business (State) | Irvine, CA | 09/08/2005
57,902, 09/07/2005 | Xantrex Technology, Inc. (Wkrs) | Arlington, WA | 09/08/2005
57,903, 08/25/2005 | Hewlett Packard (State) | San Diego, CA | 09/08/2005
57,904, 09/07/2005 | Luhr Jensen and Sons, Inc. (Comp) | Hood River, OR | 09/08/2005
57,905, 08/26/2005 | Compass Group (Wkrs) | Morrison, TN | 09/08/2005
57,906, 08/29/2005 | Flexsteel (Wkrs) | Dubuque, IA | 09/08/2005
57,907, 09/08/2005 | JBL Resources (Comp) | Rockford, MI | 09/09/2005
57,908, 09/08/2005 | Casair, Inc. (Comp) | Stanton, MI | 09/09/2005
57,909, 09/08/2005 | K Force, Inc. (Comp) | Grand Rapids, MI | 09/09/2005
57,910, 09/08/2005 | Manpower (Comp) | Greenville, MI | 09/09/2005
57,911, 09/08/2005 | Select Resources (Comp) | Grandville, MI | 09/09/2005
57,912, 09/08/2005 | Securitas Services (Comp) | Grand Rapids, MI | 09/09/2005
57,913, 09/08/2005 | Canteen Services (Comp) | Belmont, MI | 09/09/2005
57,914, 09/07/2005 | Honeywell (Wkrs) | Columbia, SC | 09/09/2005
57,915, 08/29/2005 | ICU Medical (Wkrs) | Vernon, CT | 09/09/2005
57,916, 09/08/2005 | GTP Greenville, Inc. (Comp) | Greenville, SC | 09/09/2005
57,917, 09/08/2005 | Ultra Clean Technology (State) | Menlo Park, CA | 09/09/2005
57,918, 09/07/2005 | Williams Wood Carving, Inc. (Comp) | Hickory, NC | 09/09/2005
57,919, 09/08/2005 | Sterling Printing, Inc. (Wkrs) | Thomasville, NC | 09/09/2005
57,920, 09/18/2005 | PMI, Phoenix Metallurgical, Inc. (Comp) | Hopedale, MA | 09/09/2005

[FR Doc. E5-5479 Filed 10-5-05; 8:45 am]

BILLING CODE 4510-30-P